DEPARTMENT OF AGRICULTURE

Forest Service

Trout Slope West Timber Project, Ashley National Forest, Uintah County, UT

AGENCY: Forest Service, USDA.

ACTION: Notice of intent to prepare an environmental impact statement.

SUMMARY: The Ashley National Forest has proposed to harvest live and dead timber within the Trout Slope West area of the Vernal Ranger District. The objectives of the proposal are to: reduce potential fuel loadings within treatment areas, prevent a likely future forest condition of blown down and jack-strawed timber, reduce stand density and thereby increase the growth of individual residual trees, begin the development of greater tree species diversity within treatment areas, and to recover the economic value of wood products associated with these objectives.

DATES: To be most useful, comments concerning the scope of the analysis should be received in writing by August 14, 2002.

ADDRESSES: Send written comments to: Brad Exton, District Ranger, Vernal Ranger District, Ashley National Forest, 255 N. Vernal Avenue, Vernal, Utah 84078, or e-mail at bexton/r4_Ashley@fs.fed.us

FOR FURTHER INFORMATION CONTACT: Specific questions about the proposed project and analysis should be directed to Ralph Rau, ID Team Leader, Vernal Ranger District, 355 N. Vernal Ave., Vernal, Utah, (435) 789-1181

SUPPLEMENTARY INFORMATION: This proposal arises out of the Vernal Ranger District's Trout Slope Landscape Assessment (TSLA), (1996) that describes the existing condition of an 80,000-acre area between East Park and Leidy Peak. The assessment suggests a desired future condition for the area and recommends resource management strategies to move the area towards the desired condition as a more specific complement to the broad direction of the Ashley National Forest Land and Resource Management Plan (FLRMP), (1986).

The Trout Slope West analysis area is approximately 18,500 acres and lies between Oak Park Reservoir to the east and Leidy Peak to the west. The project area is approximately 24 miles to the northwest of Vernal, Utah and can be accessed via Taylor Mountain Road and Forest Service Road 018. There are approximately 33 miles of open system roads that provide public access to the area. The proposed action was selected from the TSLA by using existing stand level data, areas with existing roads, and areas that included either high proportions of dead and dying trees or were in need of thinning. Environmental conditions that were considered in developing the proposal were sensitive soils, riparian areas, a timber stand patch size and arrangement in relation to wildlife use, slopes suitable for tractor harvesting, forest type, landtype associations, level and types of recreation use, archaeological resources, and vegetative structual stages.

Proposed Action: The proposed action includes the following activities:

1. Individual tree selection and salvage on approximately 1700 acres.

2. Intermediate harvest (thinning) on approximately 470 acres.

3. Placement of a temporary bridge on the North Fork of Ashley Creek, located about one-quarter mile to the east of Long Park Reservoir. The bridge would be removed when harvest activities are completed.

4. Reconstruction of approximately one-half mile of existing road to allow for correct placement of the bridge noted above.

5. Approximately 12 miles of existing roads would be opened to access proposed harvest areas. A minimal amount of work including cleaning of ditches, and turnouts, spot blading as required, and removal of down timber would be necessary to make the roads suitable for hauling. All of these roads would be closed at the end of harvest operations and seeded with grasses as needed.

Responsible Official: The responsible official for the environmental impact statement is Bert Kulesza, Forest Supervisor, Ashley National Forest. The Forest Supervisor's address is 355 North Vernal Ave., Vernal, Utah 84078.

Nature of Decision To Be Made: The decision to be made is: Should the proposed action for the Trout Slope West Area be implemented or a different alternative that arises out of issues identified through public scoping and internal agency concerns.

Scoping Process: Formal scoping begins upon publication of this notice and will include mailing of information to known and interested parties.

Comment Requested

This notice of intent initiates the scoping proces which guides the development of the environmental impact statement. To be most helpful please submit your comments by August 30, 2002. All comments become part of the public record and can be made available upon request.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at CFR 1503.3 in addressing these points.

(Authority: 40 CFR 1501.7 and 1508.22; Forest Service Handbook 1909.15, Section 21)

Dated: July 17, 2002.
Bert Kulesza,
Forest Supervisor.

[FR Doc. 02-18513 Filed 7-22-02; 8:45 am]

BILLING CODE 3410-11-M